NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 25, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of the Interior, Office Surface Mining and Reclamation Enforcement (N1- 471-10-5, 2 items, 1 temporary item). Master files of an electronic information system used to document unfunded high priority coal reclamation projects. Proposed for permanent retention are snapshots of the master files.

2. Department of Justice, Federal Bureau of Investigation (N1-65-10-14, 3 items, 2 temporary items). Records of the Domestic Emergency Support Team in the Critical Incident Response group, including files related to training, exercises, and responses to events as well as administrative files. Proposed for permanent retention are policy files.

3. Department of Justice, Federal Bureau of Investigation (N1-65-10-17, 1 item, 1 temporary item). Master files of electronic information systems used to analyze large volumes of evidence to facilitate case processing. Evidence used in an investigation is filed in the appropriate investigation case file.

4. Department of Justice, Federal Bureau of Investigation (N1-65-10-19, 3 items, 1 temporary item). Records of the Foreign Emergency Report Team in the Critical Incident Response Group, including deployment files for protection at overseas meetings, events, training, and exercises. Proposed for permanent retention are deployment files related to terrorist incidents and other high-profile incidents.

5. Department of Justice, Federal Bureau of Investigation (N1-65-11-8, 5 items, 5 temporary items). Records of the Office of Congressional Affairs, including calendars, reference material, routine constituent inquiries, and master files of an electronic information system used to track correspondence.

6. Department of Justice, Federal Bureau of Investigation (N1-65-11-9, 2 items, 2 temporary items). Records of the Institutional Review Board relating to research projects undertaken within the agency, including research proposals, informed consent forms, and other administrative management records.

7. Department of Justice, Federal Bureau of Investigation (N1-65-11-12, 1 item, 1 temporary item). Records of the Critical Incident Response Group, including case files related to counterterrorism preparedness for special events.

8. Administrative Office of the United States Courts, United States Bankruptcy Courts (N1-578-11-1, 11 items, 2 temporary items). Non-electronic bankruptcy case files and adversary proceedings files not selected as permanent by random sampling or by historical selection criteria. Proposed for permanent retention are case files dated 1940 and earlier; cases filed under the Bankruptcy Acts of 1800, 1841, and 1867; cases files under the Bankruptcy Acts of 1898 and 1978 under Chapter VIII, Section 75 (Agricultural), Chapter VIII, Section 77 (Railroad Reorganization), Chapter IX (Political Subdivisions), Chapter X (Corporate Reorganizations), Chapter XV (Railroad Adjustments), Chapter 7, Subchapters III (Stockbroker) and IV (Commodity Broker), Chapter 9 (Municipality), Chapter 11, Subchapter IV (Railroad Reorganization), case files containing orders pursuant to Chapter XIV of the Bankruptcy Act of 1898 or Section 908 of Title IX of the Merchant Marine Act; Chapter 12 of the Congressional Act of 1986 (Family Farms and Family Fishermen); historically significant cases; cases selected in a random sample; and adversary proceedings that go to trial, are historically significant, and are selected by a random sample.

9. Administrative Office of the United States Courts, United States District Courts (N1-21-11-1, 6 items, 2 temporary items). Criminal case files for misdemeanors, petty offenses, non-trial cases from 1970 or after. Proposed for permanent retention are trial cases; cases relating to treason, national security, or crimes by public officials; and historically significant cases.

10. Federal Maritime Commission, Agency-wide (N1-358-10-1, 2 items, 2 temporary items). Master files of an electronic information system containing copies of commission issuances and public filings for public use. Also included is the agency website containing information about the agency and its programs.

Dated: April 20, 2011.
Sharon G. Thibodeau,
Deputy Assistant Archivist for Records Services—Washington, DC.

[FR Doc. 2011-10023 Filed 4-22-11; 8:45 am]

BILLING CODE 7515-01-P